DEPARTMENT OF AGRICULTURE

Food Safety and Inspection Service

[Docket No. 00-014R]

Announcement of and Request for Comment Regarding Industry Petition on Hazard Analysis and Critical Control Point (HACCP) Inspection

AGENCY: Food Safety and Inspection Service, USDA.

ACTION: Notice; reopening of comment period.

SUMMARY: The Food Safety and Inspection Service (FSIS) is reopening the comment period on a notice published in the Federal Register on May 15, 2000, announcing and requesting comment on a petition received by several trade associations requesting FSIS to amend sections of its Hazard Analysis and Critical Control Point (HACCP) regulations. The comment period will be reopened for 60 days. This action is in response to a request received from the National Advisory Committee on Meat and Poultry Inspection (NACMPI).

DATES: Comments must be received on or before September 12, 2000.

ADDRESSES: Submit one original and two copies of written comments to: FSIS Docket Room, Docket #00-014E, Room 102 Cotton Annex Building, 300 12th Street, SW., Washington, DC 20250-3700. All comments received in response to this notice will be considered part of the public record and will be available for viewing in the FSIS Docket Room between 8:30 a.m. and 4:30 p.m., Monday through Friday. FSIS is making available side-by-side comparison documents on the FSIS homepage at www.fsis.usda.gov.

FOR FURTHER INFORMATION CONTACT: Daniel L. Engeljohn, Director, Regulations Development and Analysis Division, Food Safety and Inspection Service, Washington, DC 20250-3700, Telephone (202) 720-5627, FAX (202) 690-0486.

SUPPLEMENTARY INFORMATION: On May 15, 2000, FSIS published a notice in the Federal Register announcing the availability of and requesting comment on a petition received from a group of trade associations (65 FR 30952). The petition asked FSIS to amend sections of the Hazard Analysis and Critical Control Point (HACCP) regulations (9 CFR Part 417). The petitioners argued that the changes would increase the effectiveness of establishments' HACCP systems and would make the regulations more consistent with the HACCP principles published in 1997 by the National Advisory Committee on Microbiological Criteria for Food (NACMCF). However, the petition was submitted with no data or examples to support the requests being made. The notice provided a 60-day comment period, which ended on July 14, 2000.

FSIS received a request from the National Advisory Committee on Meat and Poultry Inspection (NACMPI) to extend the comment period to allow the petitioners more time to provide specific examples and data to support the recommendations they posed in their petition. The NACMPI also requested that FSIS make available a set of side-by-side documents discussing definitions, principles, procedures, and prerequisites of FSIS, the Food and Drug Administration, the NACMCF, and the Codex Alimentarius Commission's HACCP procedures.

In response to the requests, FSIS is reopening the comment period for 60 days, making comments due September 12, 2000. Also, FSIS has prepared a set of side-by-side documents which are now available on the FSIS homepage at www.fsis.usda.gov and also in the FSIS Docket Room (see ADDRESSES).

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC, on: July 20, 2000.
Thomas J. Billy,
Administrator.

[FR Doc. 00-18769 Filed 7-24-00; 8:45 am]

BILLING CODE 3410-DM-P